DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: Annual Survey of Manufactures.

OMB Control Number: 0607-0449.

Form Number(s): MA-10000.

Type of Request: Reinstatement, with change of an expired collection.

Number of Respondents: 55,000.

Average Hours per Response: 3.5 hours.

Burden Hours: 192,500.

Needs and Uses: The Census Bureau is requesting a reinstatement with changes of the expired collection for the Annual Survey of Manufactures (ASM). The Census Bureau has conducted the ASM since 1949 to provide key measures of manufacturing activity during intercensal periods. In census years ending in “2” and “7,” we mail and collect the ASM as part of the Economic Census covering the Manufacturing Sector.

The Census Bureau allowed the previous clearance to lapse since ASM inquiries for survey year 2017 (collected in 2018) are cleared as part of the 2017 Economic Census (0607-0998). The Census Bureau is requesting reinstatement to continue annual collection of the ASM for survey years 2018, 2019, and 2020.

The ASM collects data on employment, payroll, hours, wages of production workers, value added by manufacture, cost of materials, value of shipments by North American Product Classification System (NAPCS) product code, inventories, cost of employer's fringe benefits, operating expenses, and expenditures for new and used plant and equipment. The Census Bureau tabulates and publishes data for most of these items by two-digit through six-digit North American Industry Classification System (NAICS) levels. The Census Bureau also publishes ASM data by state at the two-through four-digit NAICS levels.

Federal agencies use ASM data as benchmarks for their statistical programs, including the Federal Reserve Board's Index of Industrial Production and the Bureau of Economic Analysis' (BEA) National Income and Product Accounts. The Department of Energy relies on ASM estimates on the use of energy during production in the manufacturing sector. These data also are used as benchmark data for the Manufacturing Energy Consumption Survey, which is conducted for the Department of Energy by the Census Bureau. Within the Census Bureau, the ASM data are used to benchmark and reconcile monthly and quarterly estimates of manufacturing production and inventories.

The survey also provides valuable information to private companies, research organizations, and trade associations. Industry makes extensive use of the annual figures on NAPCS product shipments for market analysis, product planning, and investment planning. State development and planning agencies rely on ASM data for policymaking, planning, and administration.

The Census Bureau plans to make the following changes to the ASM data collection:

a. Elimination of the MA-10000(S)

The MA-10000(S) questionnaire will be eliminated. Historically, all locations of multiple-establishment firms and large single-establishment firms in the sample were asked to report on the MA-10000(L) questionnaire. The remaining single-establishment firms in the sample were asked to report on the MA-10000(S). In 2014, approximately 3,000 out of 51,000 sampled establishments received the MA-10000(S). This change will impact less than 6% of respondents. The MA-10000(S) was an abbreviated version of the MA-10000(L), and collected significantly less detailed data. Data not collected on the MA-10000(S) were imputed. Imputation rates and estimates will improve by eliminating the MA-10000(S). The MA-10000(L) will be renamed MA-10000 and all ASM establishments will be required to complete the MA-10000.

The 2018 ASM will include two paths. The multiple-establishment firms will receive a questionnaire path that includes spreadsheet functionality. Firms will be able to enter data for their locations in a form view or select the spreadsheet option. Respondents have the ability to download, export, and import their spreadsheets. Respondents will have the option to “add locations” if there are establishments not listed for their firm. The path for single-establishment firms does not include spreadsheet functionality, or the ability to “add locations”. The multiple-establishment path includes instructions and a question related to interplant transfers; single-establishment firms do not have interplant transfers.

b. Elimination of Item 5B, Exports and Item 11, Inventories Outside the U.S.

Item 5B, Exports and Item 11, Inventories Outside the U.S. are no longer needed by either the International Trade Administration (ITA) or the Bureau of Economic Analysis. The elimination of these items was not documented in the ASM pre-submission notice dated July 13, 2018, because the decision was made after the notice was published in the Federal Register. Eliminating collection of these items has no impact on data users since these data items were not published as part of the ASM. Historically, exports data was used to publish the Exports from Manufacturing report, funded by ITA. This report was published by the U.S. Census Bureau and sponsored by ITA. https://www.census.gov/manufacturing/exports/. The Exports from Manufacturing report was discontinued by ITA in 2012, due to lack of funding.

c. Addition of Item 17, Principal Business Activity

Item 17, Principal Business Activity on the MA-10000 will ask the respondent to identify their principal kind of business or activity. The question will pre-list suggested six-digit NAICS codes and descriptions for each establishment. The respondent will have the option to select the pre-listed NAICS that describes their principal business activity or to “write-in” their principal business activity if the pre-listed NAICS does not apply. Adding this question will help the Census Bureau identify out-of-scope establishments that do not conduct manufacturing activities and establishments which are classified in an incorrect manufacturing industry.

d. Change in Item 22, Product Classification

Previously, Item 22, Details of Sales Shipments Receipts or Revenue was collected on a NAICS basis. Beginning with the 2018 ASM, the collection of Item 22 will be based on the North American Product Classification System (NAPCS). NAPCS is a comprehensive demand-based hierarchical classification system for products that is not industry-of-origin based, but can be linked to the NAICS industry structure, and is consistent across the three North American countries. The primary objective of this product classification change is to identify, define, and classify the outputs produced and transacted (sold, transferred, or placed in inventory) by the reporting units within each industry regardless of their designation (intermediate or final). https://www.census.gov/eos/www/napcs/.

e. Elimination of Item 22, Miscellaneous Receipts

Due to the implementation of NAPCS, it is unnecessary to collect Miscellaneous Receipts. In previous ASM survey years, products were collected using only manufacturing sector NAICS codes. Non-manufacturing sector products, produced by manufacturing establishments were classified as Miscellaneous Receipts, which included contract work, resales, and other. NAPCS is an economy-wide solution, which allows ASM respondents to classify out of sector products in valid NAPCS codes.

f. Addition of Item 28, Special Inquiry on Robotic Use

Add a new Special Inquiry, Item 28 on basic robotic use in manufacturing to gauge the prevalence of robotics use in the manufacturing sector across different geographies and by firm size. Questions will be added to collect the number of industrial robots in operation, the number of industrial robots purchased, and the value of capital expenditures for robotic equipment.

g. Item 29, Burden Estimate

Firms will be asked to provide an estimate of how long it took to complete the MA-10000 questionnaire. Responses to this question will be used to re-evaluate the burden hours we impose on respondents, given the various question additions, changes and deletions we are making. The Census Bureau will submit a nonsubstantive change request to revise the burden of this collection if analysis indicates a change. Efforts to analyze paradata to assess burden are currently being evaluated. ASM instrument paradata shows time logged-in and patterns of movement through the instrument, but not time spent reviewing instructions and gathering the necessary data. Nor does it provide an indication of idle time while the respondent is logged in. Paradata can help the Census Bureau calculate the time spent in the instrument but may not be a true reflection of respondent burden.

Affected Public: Businesses or other for-profit.

Frequency: Annually.

Respondent's Obligation: Mandatory.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer, Commerce Department.

[FR Doc. 2018-26537 Filed 12-6-18; 8:45 am]

BILLING CODE 3510-07-P